DEPARTMENT OF COMMERCE

DEPARTMENT OF THE INTERIOR

Fish and Wildlife Service

[FWS-R1-R-2009-N265; 1265-0000-10137-S3]

Pacific Remote Islands Marine National Monument; Monument Management Plan, Comprehensive Conservation Plans, and Environmental Assessment

AGENCIES: Fish and Wildlife Service, Interior; National Oceanic and Atmospheric Administration, Commerce.

ACTION: Notice of intent; request for comments.

SUMMARY: We, the U.S. Fish and Wildlife Service (FWS) and the National Oceanic and Atmospheric Administration (NOAA), intend to prepare the monument management plan (MMP) for the Pacific Remote Islands Marine National Monument (Monument), established by Presidential Proclamation 8336. Additionally, the FWS also intends to prepare new or revised comprehensive conservation plans (CCPs) for the following national wildlife refuges (Refuges) contained therein: Baker Island, Howland Island, Jarvis Island, Johnston Atoll, Kingman Reef, Palmyra Atoll, and Wake Atoll. When the draft MMP is complete, we will advertise its availability and again seek public comment. We furnish this notice to advise the public and other Federal agencies of our intentions, and to obtain suggestions and information on the scope of issues to consider during the planning process.

An environmental assessment (EA) to evaluate the potential effects of various management alternatives will also be prepared. The EA will provide resource managers with the information needed to determine if the potential effects may be significant and warrant preparation of an Environmental Impact Statement (EIS), or if the potential impacts lead to a Finding of No Significant Impact (FONSI).

DATES: To ensure consideration, we must receive your comments by May 5, 2011.

ADDRESSES: Additional information about the Monument and its seven Refuge units is available at http://www.fws.gov/pacificremoteislandsmarinemonument/ and http://www.fpir.noaa.gov/MNM/mnm_index.html. Please send your written comments or requests for more information by any of the following methods:

E-mail: Pacific_Reefs@fws.gov.

Fax: (808) 792-9586.

U.S. Mail: Susan White, Project Leader, Pacific Reefs National Wildlife Refuge Complex, 300 Ala Moana Blvd. Room 5-231, Honolulu, HI 96850.

FOR FURTHER INFORMATION CONTACT: Susan White, Project Leader, (808) 792-9550.

SUPPLEMENTARY INFORMATION:

Background

Monument Establishment and Management Responsibilities

On January 6, 2009, President George W. Bush issued Proclamation No. 8336 (Proclamation), establishing the Monument under the authority of the Antiquities Act of 1906. The Monument incorporates approximately 86,888 square miles within its boundaries, which extend 50 nautical miles (nmi) from the mean low water lines of Baker, Howland, and Jarvis Islands; Johnston, Palmyra, and Wake Atolls; and Kingman Reef. The Secretary of the Interior, in consultation with the Secretary of Commerce, has responsibility for management of the Monument, including out to 12 nmi from the mean low water lines of Baker, Howland, and Jarvis Islands; Johnston, Palmyra, and Wake Atolls; and Kingman Reef, pursuant to applicable legal authorities. The Secretary of Commerce, through NOAA, and in consultation with the Secretary of the Interior, has primary responsibility for management of the Monument seaward from 12 to 50 nmi with respect to fishery-related activities regulated pursuant to the Magnuson-Stevens Fishery Conservation and Management Act (Magnuson-Stevens Act) (16 U.S.C. 1801 et seq.), the Proclamation, and other applicable legal authorities.

The Proclamation requires the Secretaries of the Interior and Commerce to prepare management plans within their respective authorities for the Monument, and promulgate implementing regulations that address specific actions necessary for the proper care and management of the Monument. With this notice, the Department of the Interior and Department of Commerce (Departments) are commencing development of the MMP. The Departments will work cooperatively under the Fish and Wildlife Service's lead in this process. The Commerce Department, in consultation with the Secretary of the Interior, is working with the Western Pacific Fishery Management Council pursuant to the Magnuson-Stevens Fishery Conservation and Management Act and Proclamation to develop a fisheries ecosystem plan amendment and related regulations. To the extent they relate to waters within the Monument, the plan amendment and implementing regulations will be one component of the MMP. The Departments intend to cooperate and coordinate in the development and timing of these planning and management processes.

To carry out his responsibilities from the President under the Proclamation, on January 16, 2009, the Secretary of the Interior delegated his authority for Monument management to the FWS Director, and extended the boundaries of the Baker Island, Howland Island, and Jarvis Island Refuges from 3 nmi to 12 nmi from the mean low water lines of the emergent land. The Secretary also extended the Johnston Atoll Refuge boundary to 12 nmi from the mean low water line of the emergent land, and added the emergent and submerged lands and waters of Wake Island out to 12 nmi as a unit of the National Wildlife Refuge System (NWRS). In accordance with the Proclamation, the Director will not commence management of emergent lands at Wake Island unless and until a use agreement between the Secretary of the Air Force and the Secretary of the Interior is terminated. The Secretary of Defense also continues to manage those portions of the emergent lands of Johnston Atoll under the administrative jurisdiction of the Defense Department until such administrative jurisdiction is terminated, at which time those emergent lands shall be administered as part of the Johnston Atoll Refuge.

Within the boundaries of the Monument, the FWS also continues to administer pre-existing refuges at Baker, Howland, and Jarvis Islands; Johnston and Palmyra Atolls; and Kingman Reef, in accordance with the National Wildlife Refuge System Administration Act of 1966 (Refuge System Administration Act) (16 U.S.C. 668dd-668ee), as amended.

Refuges Overview and Previous Planning Efforts

Howland Island, Baker Island, and Jarvis Island are unique places for climate change research and other research conducted at the equator. These areas have deep-water corals, coral reefs, corals in near-pristine condition, and predator-dominated marine ecosystems with a biomass of top predators that exceeds the Great Barrier Reef's. At the conclusion of a 3-year planning process, CCPs were completed for the Baker Island, Howland Island, and Jarvis Island Refuges on September 24, 2008 (73 FR 76678; December 17, 2008). For the current MMP/CCP planning process, we will focus on appropriate conservation and management regimes for the three Refuges, based on their inclusion in the Monument and their expanded boundaries. The existing CCPs for the three Refuges will be revised as needed.

Kingman Reef and Palmyra Atoll have relatively undisturbed coral reefs, with the highest levels of coral diversity in the central Pacific Ocean. Kingman Reef has the greatest known fish biomass and proportion of apex predators of any coral reef ecosystem that has been scientifically studied in the world. We received public comments regarding management of the Kingman Reef and Palmyra Atoll Refuges during our CCP public scoping period held in June 2007. We will review those comments again as part of the current MMP/CCP planning and public involvement process.

Johnston Atoll's coral reefs help connect the Hawaiian archipelago reef communities to others in the Pacific. They are the originating source for much of the larvae for the Hawaiian Islands' corals, invertebrates, and other reef fauna. The Atoll's reefs have the deepest reef-building corals on record. Wake Atoll encompasses possibly the oldest living coral atoll in the world, and has healthy and abundant coral and fish populations. No previous CCP planning occurred for the Johnston Atoll and Wake Atoll Refuges.

The MMP and CCP Planning Process

The MMP's format will include elements similar to a NWRS CCP, and the planning process will be conducted in a manner similar to the CCP planning and public involvement process for those elements. The Refuge System Administration Act requires that a CCP be developed for each national wildlife refuge or planning unit. The purpose for developing a CCP is to provide refuge managers with a 15-year direction for achieving refuge purposes and contributing toward the mission of the NWRS, consistent with sound principles of fish and wildlife management, conservation, legal mandates, and applicable policies. In addition to outlining broad management direction for conserving wildlife and habitats, CCPs identify wildlife-dependent recreational opportunities available to the public, including opportunities for hunting, fishing, wildlife observation, wildlife photography, and environmental education and interpretation. We will review and update the MMP and CCPs at least every 15 years consistent with the Refuge System Administration Act.

Each unit of the NWRS was established for specific purposes. We use a refuge's purposes as the foundation for developing and prioritizing the management goals and objectives for each refuge within the mission of the NWRS, and to determine how the public can use each refuge. The CCP planning process is a way for us and the public to evaluate management goals and objectives that will ensure the best possible approach to wildlife, plant, and habitat conservation, while providing recreational opportunities that are compatible with each refuge's establishing purposes and the mission of the NWRS.

We will conduct environmental reviews of various alternatives and develop an EA in accordance with the National Environmental Policy Act (NEPA) of 1969, as amended (42 U.S.C. 4321 et seq.); NEPA regulations (40 CFR parts 1500-1508); other Federal laws and regulations; and applicable policies and procedures for compliance with those laws and regulations.

The Fish and Wildlife Service, as lead agency for NEPA purposes, will also designate and involve as a cooperating agency the Department of Commerce, through NOAA, in accordance with NEPA and Executive Order 13352 of August 26, 2004, titled Facilitation of Cooperative Conservation.

Public Involvement

The FWS and NOAA will conduct the planning process in a manner that will provide participation opportunities for the public, Federal agencies, and other interested parties. At this time, we encourage input in the form of issues, concerns, ideas, and suggestions for the future management of the Monument and the Refuges. Opportunities for additional public input will be announced throughout the planning process. We may hold public meetings to help share information and obtain comments.

Preliminary Issues, Concerns, and Opportunities

We have identified the following preliminary issues, concerns, and opportunities that we may address in the MMP/CCPs. We may identify additional issues during public scoping.

• Climate change impacts and adaptation.

• Marine debris impacts and removal.

• Invasive species prevention and control.

• Other potential threats to the ecosystem (e.g., trespass; illegal fishing; and shipwrecks, groundings, and spills).

• Emergency response to natural and manmade disasters and natural resources damage assessments.

• Operational capabilities for effective ecosystem monitoring, surveillance, and enforcement.

• Habitat conservation and restoration.

• Biological and abiotic inventory and monitoring.

• Protected resources and their habitats, including coral reefs, marine clams, apex predators, marine mammals, sea turtles, seabirds, and fishes.

• Historic and cultural resources, including maritime heritage.

• Public education and outreach.

• International programs and collaboration.

• Scientific exploration and research opportunities.

• Past and current use of military sites.

• Methods for protecting the physical, biological, and cultural resources for the long term, while providing high-quality wildlife-dependent recreation opportunities.

• Marine and terrestrial wildlife and habitat management.

• Visitor services management.

• Facilities maintenance.

• Develop an appropriate permitting regime for activities in the Monument, where necessary.

• Determine if bioprospecting is appropriate and compatible.

Next Steps

The FWS and NOAA will be considering your comments during the development of the Draft MMP/CCPs/EA.

Public Availability of Comments

Before including your address, phone number, or other personal identifying information in your comment, you should be aware that your entire comment—including your personal identifying information—may be made publicly available at any time. While you can ask us in your comments to withhold your personal identifying information from public review, we cannot guarantee that we will be able to do so.

Robyn Thorson,
Regional Director, Region 1, Portland, Oregon.
Margo Schultz-Haugen,
Acting Deputy Director, Office of Sustainable Fisheries, National Marine Fisheries Service.

[FR Doc. 2011-7962 Filed 4-4-11; 8:45 am]

BILLING CODE 4310-55-P